DEPARTMENT OF TRANSPORTATION

Federal Aviation Administration

14 CFR Part 43

Recording of Major Repairs and Major Alterations

AGENCY: Federal Aviation Administration, DOT.

ACTION: Final rule; technical amendment.

SUMMARY: The Federal Aviation Administration (FAA) is making a minor technical change to aviation repair stations' instructions in Part 43 on how to send required repair and alteration data to the FAA. We are making this change to take advantage of newer and more efficient methods of collecting aviation maintenance data.

EFFECTIVE DATES: Effective on November 3, 2006.

FOR FURTHER INFORMATION CONTACT: Robert Stockslager, AFS-340, Aircraft Maintenance Division, General Aviation and Repair Station Branch, AFS-340, Federal Aviation Administration, 800 Independence Avenue, SW., Washington, DC 20591; telephone (717) 774-8271, extension 258; facsimile (717) 774-8327, e-mail bob.stockslager@faa.gov.

SUPPLEMENTARY INFORMATION: The FAA is amending Part 43 to change the location used to submit FAA Form 337, Major Repair and Alteration. We are changing the location from “local Flight Standards District Office” to the FAA's Mike Monroney Aeronautical Center in Oklahoma City, Oklahoma. The purpose of this change is to centralize the processing of the Form 337 documents and facilitate FAA acceptance of electronic submissions of Form 337 documents in the future. The change does not affect any other requirements of Part 43.

Technical Amendment

The technical amendment will change the location for submitting Form 337 documents.

List of Subjects in 14 CFR Part 43

Aircraft, Aviation safety, Reporting and recordkeeping requirements.

Title 14 of the Code of Federal Regulations (CFR) Part 43 is amended as follows:

PART 43—MAINTENANCE, PREVENTIVE MAINTENANCE, REBUILDING, AND ALTERATION

1. The authority citation for Part 43 continues to read as follows:

Authority: 49 U.S.C. 106(g), 40113, 44701, 44703, 44705, 44707, 44711, 44713, 44717, 44725.

2. Revise Part 43, Appendix B, paragraph (a)(3) to read as follows:

Appendix B

(a) * * *

(1) * * *

(2) * * *

(3) Forward a copy of that form to the FAA Aircraft Registration Branch in Oklahoma City, Oklahoma, within 48 hours after the aircraft, airframe, aircraft engine, propeller, or appliance is approved for return to service.

* * * * *

Issued in Washington, DC on September 15, 2006.
Ida M. Klepper,
Acting Director, Office of Rulemaking.

[FR Doc. E6-16405 Filed 10-3-06; 8:45 am]

BILLING CODE 4910-13-P